DEPARTMENT OF THE INTERIOR

Fish and Wildlife Service

[FWS-R4-R-2008-N0009; 40136-1265-0000-S3]

Grand Bay National Wildlife Refuge, Jackson County, MS, and Mobile County, AL

AGENCY: Fish and Wildlife Service, Interior.

ACTION: Notice of availability: draft comprehensive conservation plan and environmental assessment; request for comments.

SUMMARY: We, the Fish and Wildlife Service, announce the availability of a draft comprehensive conservation plan and environmental assessment (Draft CCP/EA) for Grand Bay National Wildlife Refuge for public review and comment. In this Draft CCP/EA, we describe the alternative we propose to use to manage this refuge for the 15 years following approval of the Final CCP.

DATES: To ensure consideration, we must receive comments by May 16, 2008.

ADDRESSES: Requests for copies of the Draft CCP/EA should be addressed to: Grand Bay National Wildlife Refuge, 6005 Bayou Heron Road, Moss Point, MS 39562; Telephone: 601/475-0765. The Draft CCP/EA may also be accessed and downloaded from the Service's Internet Web site http://southeast.fws.gov/planning. Comments on the Draft CCP/EA may be submitted to the above address or via electronic mail to: mike_dawson@fws.gov.

FOR FURTHER INFORMATION CONTACT: Mike Dawson, Refuge Planner, Jackson, MS; Telephone: 601/965-4903, Ext. 20.

SUPPLEMENTARY INFORMATION:

Introduction

With this notice, we continue the CCP process for Grand Bay National Wildlife Refuge. We started the process through a notice in the Federal Register on December 29, 2005 (70 FR 77176).

Background

The CCP Process

The National Wildlife Refuge System Administration Act of 1966, as amended by the National Wildlife Refuge System Improvement Act of 1997, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

CCP Alternatives, Including Our Proposed Alternative

We developed four alternatives for managing the refuge and chose Alternative C as the proposed action. Each alternative would pursue the same four broad refuge goals. These goals are (1) Wildlife; (2) habitat; (3) public use; and (4) refuge administration.

Alternatives

A full description of each alternative is in the Draft CCP/EA. We summarize each alternative below.

Alternative A: Current Management (No Action)

Alternative A would maintain the current management direction, that is, the refuge's habitats and wildlife populations would continue to be managed as they have in recent years. Public use patterns would remain relatively unchanged from those that exist at present.

We would support national and regional plans to promote management actions that would provide for viable populations of native fish and wildlife species and habitats, with special emphasis on wet pine savanna.

There would be no active, direct management of waterfowl or other migratory bird populations. All sightings and the presence of threatened and endangered species would be documented on the refuge. However, no active efforts would be undertaken to inventory other wildlife.

We would maintain approximately 1,000 acres of pine savanna, which is the existing acreage. No active management would be undertaken to improve the habitat condition of forested wetlands. We would continue to utilize prescribed fire to manage habitats and reduce hazardous fuels on approximately 1,000 acres; furthermore, we would attempt to set prescribed fires on a 2- to 3-year rotation and to suppress wildfires. In partnership with the National Estuarine Research Reserve (NERR), we would annually control 20-30 acres of cogongrass and Chinese tallow.

We would identify and protect natural and cultural resources of the refuge. We would seek to acquire 90 percent of all lands within the approved acquisition boundary within 15 years of CCP approval. Through a partnership with NERR, we would protect shell middens on the refuge. In order to pursue these and other objectives, we would provide one full-time law enforcement officer.

We would provide opportunities for quality, wildlife-dependent public uses, leading to greater understanding and enjoyment of fish, wildlife, and the Gulf Coast ecosystems contained within the refuge.

We would continue to serve the public without a Visitor Services' Plan. In partnership with NERR, we would operate a joint research, office, and education facility/visitor center to provide benefits to refuge visitors. We would continue to allow fishing and provide hunting for deer, squirrel, and waterfowl in keeping with State regulations and seasons.

With our limited support, NERR would continue environmental education and interpretation at current levels. This would include participation in community events, on- and off-site environmental education, guided tours, and interpretive trails. Also in partnership with NERR, we would maintain current wildlife observation and photography programs and facilities.

We would cooperate with NERR to provide for sufficient staffing, facilities, and infrastructure to implement a comprehensive refuge management program. We would maintain Grand Bay Refuge's current staff of two—the refuge manager and one law enforcement officer.

Alternative B: Custodial or Passive Management

Alternative B would emphasize custodial management, also called passive management, which, in general, means that we would not actively intervene in the process of natural succession. There would be no active habitat management, including no use of prescribed fire or selective logging to open up dense forest understories.

We would support national and regional plans to promote management actions that would provide for viable populations of native fish and wildlife species and habitats, with special emphasis on wet pine savanna. We would work toward achieving a number of objectives in pursuit of the wildlife goal.

There would be no active, direct management of waterfowl or other migratory bird populations. Sightings and presence of threatened and endangered species would be documented on the refuge; however, this would be a more constrained effort than in Alternative A. Moreover, no active efforts would be undertaken to inventory other wildlife.

Alternative B does not have a wet pine savanna objective. This habitat type would neither be encouraged nor discouraged at Grand Bay Refuge under this alternative. Likewise, there would be no active management to improve the habitat condition of forested wetlands. In addition, we would not utilize prescribed fire to set back succession or manipulate habitats and plant communities. However, we would suppress all wildfires, in keeping with our policy.

Control of invasive plant species would continue on a limited basis under this alternative. In partnership with NERR, we would annually control 5-10 acres of cogongrass and Chinese tallow on the refuge.

We would identify and protect natural and cultural resources of the refuge. We would pursue land protection programs and would provide law enforcement. We would seek to acquire 90 percent of all lands within the approved acquisition boundary within 15 years of CCP approval. Through a partnership with NERR, we would continue to protect shell middens on the refuge. We would not undertake any additional efforts on behalf of discovering, protecting, and interpreting cultural resources, such as preparation and implementation of a Cultural Resources' Management Plan.

There would be no Service-provided law enforcement on the refuge under the custodial or passive management alternative. As a result, no public hunting would be permitted, because the presence of hunters on the refuge necessitates a law enforcement presence to ensure public safety and enforce compliance with State hunting regulations and refuge rules.

We would continue to serve the public without the overall guidance and direction of a Visitor Services' Plan. NERR would operate the joint research, office, and education facility/visitor center. We would continue to allow fishing in State waters on the refuge.

NERR would continue environmental education and interpretation at current levels, including participation in community events, on- and off-site environmental education, guided tours, and interpretive trails. NERR would also maintain current wildlife observation and photography programs and facilities.

Due to scaled-back direct management responsibilities for habitat, wildlife populations, and visitor services, under this alternative there would be no staff present on Grand Bay Refuge. The nearest Service personnel would be located at Mississippi Sandhill Crane National Wildlife Refuge.

Alternative C: Optimize Wildlife and Habitat Management (Proposed Action)

Alternative C would optimize wildlife and habitat management on Grand Bay National Wildlife Refuge. We would support national and regional plans to promote management actions that would provide for viable populations of native fish and wildlife species and habitats, with special emphasis on wet pine savanna.

Within 15 years of CCP approval, we would support the annual population objective of the North American Waterfowl Management Plan by contributing 20 percent (3,600 ducks) of a midwinter population of approximately 18,000 ducks in the Coastal Mississippi Wetlands Initiative Area. For all other migratory birds, within 15 years of CCP approval, we would provide habitats sufficient to meet population goals of regional and national bird conservation plans.

We would create and enhance favorable conditions for gopher tortoises (200 acres) and for the possible reintroduction of 12-15 Mississippi sandhill cranes (5-7 nesting pairs) and the gopher frog (creating two ponds). Over the same timeframe, we would develop and maintain inventories for small mammals, butterflies, reptiles, amphibians, and possibly other taxa.

Within 15 years of CCP approval, we would restore 2,500 acres of wet pine savanna habitat, supporting primarily grassy-herbaceous dominated conditions to benefit grassland birds. We would also aim to restore forest structure to promote super-emergent trees, cavities, and understory structure on approximately 2,000 acres to benefit migratory land birds. We would utilize prescribed fire to manage habitat and reduce hazardous fuels on approximately 5,000 acres; we would aim to set prescribed fires on a 2- to 3-year rotation with 50 percent of burns during the growing season. We would suppress wildfires.

In partnership with NERR, we would annually control 50 acres of cogongrass and Chinese tallow, while controlling other invasive flora opportunistically.

We would identify and protect natural and cultural resources of the refuge. We would seek to acquire 100 percent of the lands with the approved acquisition boundary within 15 years of CCP approval. We would develop and begin to implement a Cultural Resources' Management Plan that would be used to provide overall management direction for cultural resources at Grand Bay Refuge. In order to protect these resources, we would provide one additional law enforcement officer.

In partnership with NERR, we would operate a new joint research, office, and education facility/visitor center to provide benefits to refuge visitors. We would also continue to allow fishing and provide hunting for deer, squirrel, and waterfowl consistent with State regulations and seasons. With limited refuge support, NERR would continue environmental education and interpretation at current levels, including participation in community events, on- and off-site environmental education, guided tours, and interpretive trails. In partnership with NERR, we would maintain current wildlife observation and photography programs and facilities.

We would have the same staff as under Alternative A, plus one biologist, one park ranger, one biological technician, one equipment operator, and one law enforcement officer, for a total of seven employees.

Alternative D—Optimize Visitor Services

Alternative D would optimize visitor services on Grand Bay National Wildlife Refuge. This alternative would attempt to substantially expand opportunities for public use on the refuge.

We would support national and regional plans to promote management actions that would provide for viable populations of native fish and wildlife species and habitats, with special emphasis on wet pine savanna.

There would be no active, direct management of waterfowl or other migratory bird populations. All sightings and the presence of threatened and endangered species would be documented on the refuge. Also, within 15 years of CCP approval, we would develop and maintain inventories for small mammals, butterflies, reptiles, amphibians, and possibly other taxa. We would maintain approximately 1,000 acres of pine savanna, which is the existing acreage. No active management would be undertaken to improve the habitat condition of forested wetlands. We would continue to utilize prescribed fire to manage habitat and reduce hazardous fuels on approximately 1,000 acres; furthermore, we would attempt to set prescribed fires on a 2- to 3-year rotation. We would suppress wildfires. In partnership with NERR, we would annually control 20-30 acres of cogongrass and Chinese tallow.

We would aim to acquire 100 percent of lands within the approved acquisition boundary within 15 years of CCP approval. Through an ongoing partnership with NERR, we would protect the refuge's shell middens. In order to protect resources and the public at Grand Bay, we would provide two law enforcement officers.

Within three years of CCP completion and approval, we would develop a Visitor Services' Plan to be used in expanding public use facilities and opportunities on the refuge. As in Alternative A, under Alternative D, in partnership with NERR, we would operate a new joint research, office, and education facility/visitor center to provide benefits to refuge visitors. In addition, we would develop a new welcome center along Interstate 10 near the interchange with Franklin Creek Road (Exit 75).

Within five years of CCP approval, we would develop a Hunt Plan that coordinates hunting with other increased public uses, such as wildlife observation and photography.

We would also implement our own program of expanded environmental education and interpretation to complement NERR's efforts, in keeping with the new Visitor Services' Plan. In partnership with NERR, we would implement expanded opportunities for wildlife observation and photography, such as a canoe/kayak trail, photo blind(s), and an elevated marsh observation platform at the “Goat Farm.”

In order to provide for expanded visitor services under Alternative D, we would increase the size of the staff from the current two employees. The new positions Alternative D calls for include: One assistant manager, one park ranger, one equipment operator, and two law enforcement officers for a total of seven employees.

Public Availability of Comments

Before including your address, phone number, e-mail address, or other personal identifying information in your comment, you should be aware that your entire comment, including your personal identifying information, may be made publicly available at any time. While you can ask us in your comment to withhold your personal identifying information from public review, we cannot guarantee that we will be able to do so.

Next Step

After the comment period ends for the Draft CCP/EA, we will analyze the comments and address them in the form of a Final CCP and Finding of No Significant Impact.

Authority: This notice is published under the authority of the National Wildlife Refuge System Improvement Act of 1997, Public Law 105-57.

Dated: February 8, 2008.
Cynthia K. Dohner,
Acting Regional Director.

[FR Doc. E8-8109 Filed 4-15-08; 8:45 am]

BILLING CODE 4310-55-P